DEPARTMENT OF HOMELAND SECURITY

U.S. Citizenship and Immigration Services

Agency Information Collection Activities: Extension of Existing Collection; Comment Request

ACTION: Notice of 60-day Information collection under review: petitioning requirements for H-1C Nonimmigrant Classification; Form OMB-26.

The Department of Homeland Security (DHS), U.S. Citizenship and Immigration Services (USCIS) has submitted an emergency information collection request (ICR) utilizing emergency review procedures, to the Office of Management and Budget (OMB) for review and clearance in accordance with section 1320.13(a)(1)(ii) and (a)(2)(iii) of the Paperwork Reduction Act of 1995. The USCIS has determined that it cannot comply with the normal clearance procedures under this part because normal clearance procedures are likely to prevent or disrupt the collection of information.

If granted, the emergency approval is only valid for 180 days. All comments and/or questions pertaining to this pending request for emergency approval must be directed to OMB, Office of Information and Regulatory affairs, Attention: Desk Officer, Department of Homeland Security, 725—17th Street, NW., Suite 10235, Washington, DC 20503; 202-3950-5806.

During the first 60 days of this period, a regular review of this information collection is also being undertaken. During the regular review period, the USCIS requests written comments and suggestions from the public and affected agencies concerning this information collection. Comments are encouraged and will be accepted until February 28, 2005. During the 60-day regular review, all comments and suggestions, or questions regarding the information collection instrument should be directed to Mr. Richard A. Sloan, Director, Regulatory Management Division, U.S. Citizenship and Immigration Services, Department of Homeland Security, 111 Massachusetts Avenue, NW., Washington, DC 20529; 202-616-7600. Written comments and suggestions from the public and affected agencies concerning the proposed collection of information should address one or more of the following four points:

(1) Evaluate whether the proposed collection of information is necessary for the proper performance of the functions of the agency, including whether the information will have practical utility;

(2) Evaluate the accuracy of the agencies estimate of the burden of the proposed collection of information, including the validity of the methodology and assumptions used;

(3) Enhance the quality, utility, and clarity of the information to be collected; and

(4) Minimize the burden of the collection of information on those who are to respond, including through the use of appropriate automated, electronic, mechanical, or other technological collection techniques or other forms of information technology, e.g., permitting electronic submission of responses.

Overview of this information collection:

(1) Type of Information Collection: Extension of a currently approved information collection.

(2) Title of the Form/Collection: Petitioning Requirements for H-1C Nonimmigrant Classification.

(3) Agency form number, if any, and the applicable component of the Department of Homeland Security sponsoring the collection: The agency form number is 1615-0065; the file number is OMB-26. U.S. Citizenship and Immigration Services (USCIS).

(4) Affected public who will be asked or required to respond, as well as a brief abstract: Primary: Individuals or Households. Public Law 106-95, Section 101(a)(15)(H)(i)(c) of the Immigration and Nationality Act allows petitioning hospitals to import registered nurses to work at those hospitals as nonimmigrants. The information collection is necessary for the USCIS to determine that the eligibility requirements and conditions are met regarding the nurse/beneficiary.

(5) An estimate of the total number of respondents and the amount of time estimated for an average respondent to respond: 2,000 responses at 2 hours per response.

(6) An estimate of the total public burden (in hours) associated with the collection: 4,000 annual burden hours

Dated: December 21, 2004.
Richard A. Sloan,
Director, Regulatory Management Division, U.S. Citizenship and Immigration Services.

[FR Doc. 04-28268 Filed 12-27-04; 8:45 am]

BILLING CODE 4410-10-M